DEPARTMENT OF DEFENSE

Department of the Army: Corps of Engineers

Intent To Prepare a Draft Environmental Impact Statement (EIS) for a Permit Application for Compartments B and C, Palm Beach and Hendry Counties, FL

AGENCY: U.S. Army Corps of Engineers, Jacksonville District, DoD.

ACTION: Notice of Intent (NOI).

SUMMARY: The U.S. Army Corps of Engineers (Corps), Jacksonville District, will be receiving a permit application for a Department of the Army permit under Section 404 of the Clean Water Act from the South Florida Water Management District (SFWMD) to construct Stormwater Treatment Areas (STAs) on parcels of land identified as Compartments B and C of the Everglades Agricultural Area (EAA) (Proposed Action). As part of the permit process, the Corps is evaluating the environmental effects associated with construction of STAs on these parcels in order to provide additional treatment to assist the existing STAs in the overall goal of improving the quality of water delivered and to be delivered to the Everglades Protection Area (EPA) in order to prevent further environmental degradation.

The primary federal involvement associated with the Proposed Action is the discharge of fill material (including permanent inundation) within federal jurisdictional areas and Waters of the United States. In addition, the Proposed Action could have potential significant effects on the human environment. Therefore, the Corps will prepare an EIS in compliance with the National Environmental Policy Act (NEPA) to render a final decision on the SFWMD's permit application. The Corps' decision will be to either issue or deny a Department of the Army permit for the Proposed Action. The Draft EIS is intended to be sufficient in scope to address federal, state, and local requirements and environmental issues concerning the Proposed Action and permit reviews.

FOR FURTHER INFORMATION CONTACT: Questions about the Proposed Action and Draft EIS should be directed to Ms. Tori White, Corps Regulatory Project Manager, by telephone at (561) 472-8888 or by e-mail at tori.white@usace.army.mil. Written comments should be addressed to the U.S. Army Corps of Engineers, South Florida Restoration Program Office, Attn: Ms. Tori White, 1400 Centrepark Boulevard, Suite 750, West Palm Beach, Florida 33401 or by facsimile at (561) 683-2418. Information about the Proposed Action and Draft EIS can also be obtained from the Jacksonville District Web site at http://www.saj.usace.army.mil.

SUPPLEMENTARY INFORMATION: 1. Project Site and Background Information. The Proposed Action is located at Compartments B and C of the EAA. Compartment B is located within USGS Quadrangles of Deem City, North of Deem City and West of Big Lake, Sections 23, 24, 25 and 36, Township 46 south, Range 37 east; Sections 19, 20, 21, 28, 29, 30, 31, 32 and 33, Township 46 south, Range 38 east; Sections 05, 06, 08, 09, 10, 11, 14, 15, 16, 17, 21 and 22, Township 47 south, Range 38 east. More specifically it is located in southern Palm Beach County east of Highway U.S. 27, and west of Water Conservation Area 2A and STA 2 in Southern Palm Beach County, Florida. Compartment C is located within the USGS Quadrangle of Everglades 2NW and Everglades 2SW, Sections 09, 10, 11, 12, 13, 14, 15, 16, 21, 22, 23, 24, 26 and 27, Township 47 south, Range 34 east. More specifically, it is located west of the Rotenberger Wildlife Management Area and east of the L-3 Canal between STA-5 and STA-6 in eastern Hendry County, Florida.

(a) Background. On October 4, 1996, the Corps published a Final Programmatic Environmental Impact Statement (PEIS) for the initial Everglades Construction Project (ECP) which consisted of six STAs comprising approximately 44,000 acres. The ECP was implemented by the SFWMD as a result of nutrient loads of stormwater and runoff and high phosphorus loads from the EAA, Lake Okeechobee, and other contributory basins which discharge into the EPA. The EPA includes Water Conservation Areas 1 (Arthur R. Marshall Loxahatchee National Wildlife Refuge), 2A, 2B, 3A, 3B and Everglades National Park. The initial ECP was intended to achieve an interim target discharge of a long-term annual flow-weighted mean phosphorus concentration of approximately 50 parts per billion (50 ppb). Pursuant to the Consent Decree in United States v. South Florida Water Management District, the State committed to provide water quantity and quality needed to preserve and restore the unique flora and fauna of the Everglades National Park and the Loxahatchee Wildlife Refuge. The Everglades Forever Act (EFA) embodies the same goals. The SFWMD's Long-Term Plan for Achieving Water Quality Goals, October 27, 2003 and the November 2004 revision recommend further studies that will help provide the additional detailed information required for making a more informed decision. In 2005, the SFWMD completed the EAA Regional Feasibility Study as part of the November 2004 revision to the Long-Term Plan. The Feasibility Study evaluated additional treatment needed in order to reduce phosphorus loads to the EPA and comply with the EFA including construction of STAs on Compartments B and C.

(b) Purpose and Need. The overall project purpose is to reduce nutrient loads of stormwater and runoff from the EAA and nutrient concentrations in water delivered from Lake Okeechobee prior to distribution into the EPA in order to meet legal requirements. The six existing STAs included in the ECP were built and operated pursuant to the requirements of the EFA and contain approximately 40,000 acres of effective treatment area. Subsequent to the design and construction of these STAs, the inflow volumes and phosphorus concentrations loads were updated to incorporate best available information, including several years of actual STA inflow data and outflow performance data. One of the key assumptions during the design of the original STAs was that EAA Best Management Practices (BMPs) would result in a 20% reduction in inflow volumes; however, recent historic data has shown that although the required BMPs reduced phosphorus loads, the assumed inflow volume reductions have not occurred. The Consent Decree assumed that flow lost to BMPs would be replaced with additional flow from Lake Okeechobee; however, neither the original ECP design flow nor the 2001 Basin-Specific Feasibility Studies (ECP update with enhanced STAs) provided treatment capacity for those additional flows. In addition to higher than originally assumed stormwater runoff volumes from the EAA, the STA inflow phosphorus concentrations have also shown notable increases in the past several years, likely a result of long-term increasing trends in Lake Okeechobee phosphorus concentrations, further amplified by the 2004 and 2005 hurricanes, as well as additional lake regulatory release volumes. The higher-than-anticipated EAA runoff volumes, flows and loads from Lake Okeechobee, and STA inflow concentrations have resulted in impacts to existing STA performance.

(c) Proposed Action. The SFWMD proposes to convert approximately 13,740 acres of publicly owned, primarily agricultural lands to additional STAs. The Compartment B STA will consist of approximately 6,700 acres of effective treatment area, and will be operated in close coordination with the existing STA-2 and STA-3/4 to assist in optimizing the phosphorus removal performance of these two STAs. Depending upon the hydrologic and hydraulic conditions, the Compartment B STA can assist in the reduction of inflows to STA-1W and STA-1E, which discharges into the WCA-1. The Compartment C STA will consist of approximately 6,200 acres of effective treatment area, and can be operated in close coordination with existing STA-5 and STA-6 to assist in the phosphorus reduction capability of these two STAs, which discharge into WCA-3A.

2. Alternatives. Alternatives to the Proposed Action initially being considered include:

(a) Construction of Compartment B STA and Compartment C STA to treat additional runoff in the EAA.

(b) Construction of Compartment B STA to recover ability to treat Lake Okeechobee volumes originally intended to be treated by STA-3/4 and construction of Compartment C STA to treat additional runoff in the EAA.

(c) Construction of Compartment B STA to treat a combination of Lake Okeechobee volumes and EAA runoff and construction of Compartment C STA to treat additional runoff in the EAA.

(d) Construction of STAs on additional parcels of land.

(e) Additional Treatment Technologies including but not limited to hyacinth and algae turf scrubber application.

(f) No Action.

3. Draft EIS Scoping Process.

(a) The Corps is furnishing this notice to: (1) Advise other Federal and state agencies, affected Tribes, and the public of our intentions; (2) announce the initiation of a 30-day scoping period; and (3) obtain suggestions and information on the scope of issues and alternatives to be included in the Draft EIS. The Corps invites comments from all interested parties to ensure that the full range of issues related to the permit request is addressed and that all significant issues are identified. We will accept written comments until 30 days after the date of publication of this notice.

(b) Significant issues to be analyzed in the Draft EIS include: Aesthetics/visual quality, agricultural resources, air quality, biological resources, cultural resources, cumulative impacts, environmental justice, flood protection, geology/soils, growth inducement, land use/planning, noise/vibration, public health and safety, public services/utilities, recreation, socioeconomics, threatened and endangered species, traffic/circulation, water resources including wetlands, and other issues identified through scoping, public involvement, and interagency coordination.

(c) The Corps will conduct an environmental review of the Proposed Action in accordance with the requirements of NEPA, 1969 as amended, (42 U.S.C. 4321 et seq.) and its implementing regulations (40 Code of Federal Regulations, Section 1500 et seq.), Corps Procedures for Implementing NEPA (33 Code of Federal Regulations, Section 230 et seq.), and with other appropriate federal laws and regulations, policies, and procedures of the Corps for compliance with those regulations. The Proposed Action, through the Corps permit review process, will require consultation under Section 7 of the Endangered Species Act and Section 106 of the National Historic Preservation Act. Additionally, the proposed action would involve evaluation for compliance with the Section 404(b)(1) Guidelines of the Clean Water Act; the Magnunson-Stevens Fishery Conservation and Management Act; Water Quality Certification pursuant to Section 401 of the Clean Water Act; certification of state lands, easements and right of ways; and determination of Coastal Zone Management Act consistency. Additionally, the EIS will include an evaluation of modifying land for new uses which also involves zoning, land use planning, water management, and other regulatory requirements at the local, state, and federal level. The Compartments B and C lands were purchased using funds appropriated to the Department of Interior (DOI) under the authority of the 1996 Farm Bill (Federal Agriculture Improvement and Reform Act of 1996, Public Law 104-127, 110 Stat. 1022). The DOI, Corps, Florida Department of Environmental Protection, and the SFWMD are parties to a Framework Agreement under which all interim uses of lands acquired with these funds must be consistent with the ultimate use of the property in a congressionally authorized federal project for Everglades restoration. The SFWMD will be required to obtain a land use approval from the DOI prior to construction.

4. Scoping Meeting. Public scoping meetings will be held on the Proposed Action on July 25, 2007, at 6 p.m. at the B1-Auditorium, SFWMD, 3301 Gun Club Road, West Palm Beach and on July 26, 2007, at 5 p.m. at the Institute of Food and Agricultural Sciences, 3200 E. Palm Beach Road, Belle Glade, Florida. The meetings will give agencies and the public an opportunity to receive more information on the Proposed Action and to provide comments and suggestions on the scope of the EIS.

5. Availability of the Draft EIS. The Corps currently expects the Draft EIS to be made available to the public in April 2008. A public meeting will be held during the public comment period for the Draft EIS. Written comments will be accepted at the meeting.

Dated: July 3, 2007.
David S. Hobbie,
Chief, Regulatory Division, Jacksonville District.

[FR Doc. E7-13401 Filed 7-10-07; 8:45 am]

BILLING CODE 3710-AJ-P